DEPARTMENT OF TRANSPORTATION

Federal Aviation Administration

14 CFR Part 71

[Docket No. FAA-2013-0079; Airspace Docket No. 13-AWA-1]

RIN 2120-AA66

Amendment of Class B Airspace Description; Houston, TX

AGENCY: Federal Aviation Administration (FAA), DOT.

ACTION: Final rule, technical amendment.

SUMMARY: This action amends the description of the Houston, TX, Class B airspace area by changing the airport reference for describing the William P. Hobby Airport in the Class B airspace header from “Secondary Airport” to “Primary Airport.” This change is editorial only and does not alter the current charted boundaries or altitudes or ATC procedures for the Houston Class B airspace area.

DATES: Effective date: April 8, 2013. The Director of the Federal Register approves this incorporation by reference action under 1 CFR part 51, subject to the annual revision of FAA Order 7400.9 and publication of conforming amendments.

FOR FURTHER INFORMATION CONTACT: Colby Abbott, Airspace Policy and ATC Procedures Group, Office of Mission Airspace Services, Federal Aviation Administration, 800 Independence Avenue SW., Washington, DC 20591; telephone: (202) 267-8783.

SUPPLEMENTARY INFORMATION:

Background

In 1973, the FAA issued a final rule (38 FR 31286, November 13, 1973) which established the Houston Terminal Control Area (TCA), with an effective date of March 28, 1974. The Houston TCA listed the Houston Intercontinental Airport (later renamed the George Bush Intercontinental Airport) as the primary airport. In 1987, to further reduce the risk of midair collision in the Houston terminal areas and promote the efficient control of air traffic, the FAA issued a final rule (52 FR 1418, January 13, 1987) which established the William P. Hobby Airport, Airport Radar Service Area (ARSA) next to and under the existing Houston TCA airspace. Then, in 1992, to better accommodate current traffic flows and provide a greater degree of safety in known areas of congestion involving controlled IFR and uncontrolled VFR operations, the FAA issued a final rule (57 FR 30818, July 10, 1992) and a final rule; correction (57 FR 40095, September 2, 1992) which amended the Houston TCA configuration, listed two primary airports (Houston Intercontinental Airport and William P. Hobby Airport) in the Houston TCA description, and rescinded the William P. Hobby Airport ARSA concurrently. As a result of the Airspace Reclassification final rule (56 FR 65638, December 17, 1991), which became effective on September 16, 1993, the term “terminal control area” was replaced by “Class B airspace area.”

In 1998, the FAA issued a final rule (63 FR 4162, January 28, 1998) further amending the Houston Class B airspace area to enhance safety, reduce the potential for midair collision, and better manage the air traffic operations into, out of, and through Houston Class B airspace. However, the airport reference for describing William P. Hobby Airport in the Class B airspace header was inadvertently changed from “Primary Airport” to “Secondary Airport.” The unintended consequence of this inadvertent change has led to questions and concerns regarding the 30-nautical mile (NM) Mode C veil that is charted around the Houston terminal airspace area, as well as why William P. Hobby Airport is listed as a secondary airport and what that means. The charted depiction of the Mode C veil surrounding the George Bush Intercontinental Airport and William P. Hobby Airport is correct with no change to the existing charted boundaries. Additionally, the FAA does not define what a secondary airport is, nor is that description used to identify airports in any other Class B or Class C airspace areas.

The FAA is changing the airport reference for William P. Hobby Airport in the Houston Class B airspace header to “Primary Airport,” reflecting the FAA's original intent for the Houston Class B airspace area to encompass two primary airports, George Bush Intercontinental Airport and William P. Hobby Airport, as specified in the final rule (57 FR 30818, July 10, 1992) and final rule; correction (57 FR 40095, September 2, 1992). Additionally, the FAA plans to add the William P. Hobby Airport to the list of airports identified in Title 14 of the Code of Federal Regulations, Part 91, Appendix D, Section 1, in a separate rulemaking action.

The Rule

The FAA is amending Title 14 Code of Federal Regulations (14 CFR) part 71 by editing the Houston, TX, Class B airspace description changing the airport reference for William P. Hobby Airport listed in the header from “Secondary Airport” to “Primary Airport.” This editorial change does not alter the currently charted boundaries or altitudes or ATC procedures for the Houston Class B airspace area. The FAA is taking this action to correctly describe the primary airports listed in the Houston Class B airspace area, resolve issues associated with William P. Hobby Airport having been described as a “Secondary Airport,” and reaffirms the currently charted boundary of the Mode C veil around the Houston terminal airspace area is correct, as originally intended by the FAA.

Class B airspace areas are published in paragraph 3000 of FAA Order 7400.9W dated August 8, 2012, and effective September 15, 2012, which is incorporated by reference in 14 CFR 71.1. The Class B airspace area listed in this document will be published subsequently in the Order.

Because the amendment does not affect the boundaries, designated altitudes, or activities conducted within the Class B airspace area, Houston, TX, I find that notice and public procedures under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it makes editorial corrections to an existing Class B airspace description to maintain accuracy.

Environmental Review

The FAA has determined that this action qualifies for categorical exclusion under the National Environmental Policy Act in accordance with 311a, FAA Order 1050.1E, “Environmental Impacts: Policies and Procedures.” This airspace action is an editorial change only and is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, signed August 8, 2012, and effective September 15, 2012, is amended as follows:

Paragraph 3000 Subpart B—Class B Airspace

* * * * *

ASW TX B Houston, TX [Amended]

George Bush Intercontinental Airport (IAH) (Primary Airport)

(Lat. 29°59′04″ N., long. 95°20′29″ W.)

William P. Hobby Airport (HOU) (Primary Airport)

(Lat. 29°38′44″ N., long. 95°16′44″ W.)

Ellington Field (EFD)

(Lat. 29°36′26″ N., long. 95°09′32″ W.)

Humble VORTAC (IAH)

(Lat. 29°57′25″ N., long. 95°20′45″ W.)

Point of Origin

(Lat. 29°39′01″ N., long. 95°16′45″ W.)

Boundaries

* * * * *

Issued in Washington, DC, on February 21, 2013.
Gary A. Norek,
Manager, Airspace Policy and ATC Procedures Group.

[FR Doc. 2013-04891 Filed 3-7-13; 8:45 am]

BILLING CODE 4910-13-P